FEDERAL COMMUNICATIONS COMMISSION

Privacy Act System of Records

AGENCY: Federal Communications Commission (FCC or Commission).

ACTION: Notice; one new Privacy Act system of records.

SUMMARY: Pursuant to subsection (e)(4) of the Privacy Act of 1974, as amended (5 U.S.C. 552a), the FCC proposes to add a new system of records, FCC/OLA-1, “Legislative Management Tracking System (LMTS).” The FCC's Office of Legislative Affairs (OLA) will use the information contained in FCC/OLA-1 to cover the personally identifiable information (PII) in the Commission's Legislative Management Tracking System (LMTS). OLA uses LMTS to store, track, and manage correspondence from the members of the U.S. House of Representatives and the U.S. Senate and the President of the United States and the Vice President of the United States. This correspondence may include attachments that could contain PII from individuals (members of the public at large) who contacted their Congressional Representative(s) and/or Senator(s) and/or the President and/or the Vice President concerning various telecommunications issues affecting them, e.g., telephone and cable bills, etc. In addition, FCC employees may be seeking Congressional assistance with their personal employment issues at the Commission, e.g., hiring and promotion matters, etc.

DATES: In accordance with 5 U.S.C. 552a(e)(4) and (e)(11) of the Privacy Act, as amended, any interested person may submit written comments concerning this new system of records on or before May 31, 2011. The Administrator, Office of Information and Regulatory Affairs (OIRA), Office of Management and Budget (OMB), which has oversight responsibility under the Privacy Act to review the system of records, and Congress may submit comments on or before June 7, 2011. The proposed new system of records will become effective on June 7, 2011 unless the FCC receives comments that require a contrary determination. The Commission will publish a document in the Federal Register notifying the public if any changes are necessary. As required by 5 U.S.C. 552a(r) of the Privacy Act, the FCC is submitting reports on this proposed new system to OMB and Congress.

ADDRESSES: Address comments to Leslie F. Smith, Privacy Analyst, Performance Evaluation and Records Management (PERM), Room 1-C216, Federal Communications Commission (FCC), 445 12th Street, SW., Washington, DC 20554, or via the Internet at Leslie.Smith@fcc.gov.

FOR FURTHER INFORMATION CONTACT: Contact Leslie F. Smith, Performance Evaluation and Records Management (PERM), Room 1-C216, Federal Communications Commission (FCC), 445 12th Street, SW., Washington, DC 20554, (202) 418-0217, or via the Internet at Leslie.Smith@fcc.gov.

SUPPLEMENTARY INFORMATION: As required by the Privacy Act of 1974, as amended, 5 U.S.C. 552a(e)(4) and (e)(11), this document sets forth notice of the proposed new system of records maintained by the FCC. This notice is a summary of the more detailed information about the proposed new system of records, which may be viewed at the location given above in the ADDRESSES section. The purpose for adding this new system of records, FCC/OLA-1, “Legislative Management Tracking System (LMTS),” is to cover the personally identifiable information (PII) in the Commission's Legislative Management Tracking System (LMTS). OLA uses LMTS to store, track, and manage correspondence from members of the U.S. House of Representatives and the U.S. Senate and the President of the United States and the Vice President of the United States. This correspondence may include attachments that could contain personally identifiable information (PII) from individuals (members of the public at large) who contacted their Congressional Representative(s) and/or Senator(s) and/or the President and/or the Vice President concerning various telecommunications issues affecting them, e.g., telephone and cable bills, etc. In addition, FCC employees may be seeking Congressional assistance with their personal employment issues at the Commission, e.g., hiring and promotion matters, etc.

This notice meets the requirement documenting the proposed new system of records that is to be added to the systems of records that the FCC maintains, and provides the public, OMB, and Congress with an opportunity to comment.

FCC/OLA-1

SYSTEM NAME: Legislative Management Tracking System (LMTS).

SECURITY CLASSIFICATION:

The FCC's Security Operations Center (SOC) has not assigned a security classification to this system of records.

SYSTEM LOCATION:

Office of Legislative Affairs (OLA), Federal Communications Commission (FCC), 445 12th Street, SW., Washington, DC 20554.

CATEGORIES OF INDIVIDUALS COVERED BY THE SYSTEM:

The categories of individuals in the Legislative Management Tracking System (LMTS) include members of the U.S. House of Representatives and the U.S. Senate, the President of the United States, the Vice President of the United States, members of the public at large, and FCC employees.

CATEGORIES OF RECORDS IN THE SYSTEM:

The categories of records in the Legislative Management Tracking System (LMTS), including any attachments, may include:

1. Members of the public at large: individual's name, home address, home telephone number(s), personal cell phone number(s), account number(s) for telephone, cell phone, cable television, and satellite television services, and other, miscellaneous information that an individual may include in his/her Congressional (constituent) complaint(s) and/or consumer complaints, etc.; and

2. FCC employees: individual's name, home address, home telephone number(s), personal cell phone number(s), FCC employment records, and other miscellaneous, information that a Commission employee may include in a complaint to his/her Senator(s) and/or Congressional representative(s) and/or to the President and/or Vice President.

AUTHORITY FOR MAINTENANCE OF THE SYSTEM:

5 U.S.C. 301; 44 U.S.C. 3101; and 47 U.S.C. 154(i), (j), and (k), and 47 U.S.C. 155(a).

PURPOSE(S):

OLA uses the Legislative Management Tracking System (LMTS) to store, track, and manage correspondence from the members of the U.S. House of Representatives and the U.S. Senate and the President of the United States and the Vice President of the United States. This correspondence may include attachments that could contain PII from individuals (members of the public at large) who contacted their Congressional Representative(s) and/or Senator(s) and/or the President and/or the Vice President concerning various telecommunications issues affecting them, e.g., telephone and cable bills, etc. In addition, FCC employees may be seeking Congressional assistance with their personal employment issues at the Commission, e.g., hiring and promotion matters, etc.

ROUTINE USES OF RECORDS MAINTAINED IN THE SYSTEM, INCLUDING CATEGORIES OF USERS AND THE PURPOSES OF SUCH USES:

Information about individuals in this system of records may routinely be disclosed under the following conditions:

1. Congressional Inquiries—When requested by a Congressional office in response to an inquiry that an individual made to the Congressional office for his/her own records or for the adjudication of consumer complaints, e.g., telephone and/or cable bills, etc, or other miscellaneous FCC-related matters, such as licensing issues, etc.;

2. Executive Branch Inquiries—When requested by the Executive Branch of the U.S. Government in response to an inquiry that an individual made to the President of the United States and/or the Vice President of the United States in response to an inquiry that the individual made to the Executive Branch for assistance with various telecommunications issues affecting them;

3. Government-wide Program Management and Oversight—When requested by the National Archives and Records Administration (NARA) for the purpose of records management inspections conducted under authority of 44 U.S.C. 2904 and 2906; when the U.S. Department of Justice (DOJ) is contacted in order to obtain that department's advice regarding disclosure obligations under the Freedom of Information Act; or when the Office of Management and Budget (OMB) is contacted in order to obtain that office's advice regarding obligations under the Privacy Act; and

4. Breach Notification—A record from this system may be disclosed to appropriate agencies, entities, and persons when (1) the Commission suspects or has confirmed that the security or confidentiality of information in the system of records has been compromised; (2) the Commission has determined that as a result of the suspected or confirmed compromise there is a risk of harm to economic or property interests, identity theft or fraud, or harm to the security or integrity of this system or other systems or programs (whether maintained by the Commission or another agency or entity) that rely upon the compromised information; and (3) the disclosure made to such agencies, entities, and persons is reasonably necessary to assist in connection with the Commission's efforts to respond to the suspected or confirmed compromise and prevent, minimize, or remedy such harm.

In each of these cases, the FCC will determine whether disclosure of the records is compatible with the purpose for which the records were collected.

DISCLOSURE TO CONSUMER REPORTING AGENCIES:

None.

POLICIES AND PRACTICES FOR STORING, RETRIEVING, ACCESSING, RETAINING, AND DISPOSING OF RECORDS IN THE SYSTEM:

STORAGE:

The information in the Legislative Management Tracking System (LMTS) includes paper documents, records, and files that are stored in file cabinets in the OLA office suite, and electronic records, files, and data that are stored in the FCC's computer network databases.

RETRIEVABILITY:

Information in the Legislative Management Tracking System (LMTS) is retrieved by the correspondence log-in file number, Congressional Representative's name, and/or type of complaint, etc. Regardless of the circumstances, OLA always redacts the Social Security Number and birthdate before entering a document into LMTS. Other personally identifiable information (PII) in an attachment may also be redacted prior to filing the correspondence if it is not relevant to the complaint or inquiry.

SAFEGUARDS:

The paper documents are maintained in file cabinets that are located in the OLA office suite, whose access is through a card-coded main door. Access to these files is restricted to authorized OLA supervisors and staff.

Access to the electronic files, which are housed in the FCC's computer network databases, is restricted to authorized OLA supervisors and staff and to the Information Technology Center (ITC) staff and contractors, who maintain the FCC's computer network. Other FCC employees and contractors may be granted access on a “need-to-know” basis. The FCC's computer network databases are protected by the FCC's security protocols, which include controlled access, passwords, and other security features. Information resident on the OLA database servers is backed-up routinely onto magnetic media. Back-up tapes are stored on-site and at a secured, off-site location.

RETENTION AND DISPOSAL:

Pursuant to FCC records schedule N1-173-03-2, item 5, information in the Legislative Management Tracking System (LMTS) is retained at the FCC for three years after cut-off at the end of each calendar year. The documents relating to FCC policy, e.g., Chairman correspondence, etc., are then transferred to the National Archives and Records Administration (NARA). The paper documents, records, and files are destroyed by shredding. The electronic records, data, and files (electronic storage media) are destroyed physically or by electronic erasure.

SYSTEM MANAGER(S) AND ADDRESS:

Address inquiries to the Office of Legislative Affairs (OLA), Federal Communications Commission (FCC), 445 12th Street, SW., Washington, DC 20554.

NOTIFICATION PROCEDURE:

Address inquiries to the Office of Legislative Affairs (OLA), Federal Communications Commission (FCC), 445 12th Street, SW., Washington, DC 20554.

RECORD ACCESS PROCEDURES:

Address inquiries to the Office of Legislative Affairs (OLA), Federal Communications Commission (FCC), 445 12th Street, SW., Washington, DC 20554.

CONTESTING RECORD PROCEDURES:

Address inquiries to the Office of Legislative Affairs (OLA), Federal Communications Commission (FCC), 445 12th Street, SW., Washington, DC 20554.

RECORD SOURCE CATEGORIES:

The sources for the information in the Legislative Management Tracking System are the Congressional and Executive Branch correspondence, including attachments, which may include complaints related to telephone, wireless, and cable billing or service; licensing inquiries; or other inquiries on issues under FCC jurisdiction, etc., submitted by constituents (members of the public at large); or personnel actions or complaints from constituents who are FCC employees.

EXEMPTIONS CLAIMED FOR THE SYSTEM:

None.

Federal Communications Commission.
Avis Mitchell,
Information Specialist.

[FR Doc. 2011-10202 Filed 4-27-11; 8:45 am]

BILLING CODE 6712-01-P